DEPARTMENT OF HEALTH AND HUMAN SERVICES

Administration for Children and Families

Submission for OMB Review; Cost Study of Trauma-Specific Evidence-Based Programs Used in the Regional Partnership Grants Program (0970-0557)

AGENCY: Children's Bureau, Administration for Children and Families, HHS.

ACTION: Request for public comment.

SUMMARY: The Children's Bureau (CB), Administration for Children and Families (ACF), U.S. Department of Health and Human Services (HHS), is requesting an extension with minor changes to the approved information collection: The Cost Study of Trauma-Specific Evidence-Based Programs used in the Regional Partnership Grants (RPG) Program. This data collection request was previously approved and scheduled for spring 2021 but was delayed due to the COVID-19 pandemic. Data collection is now feasible but will extend beyond the current expiration date of November 30, 2021, so an extension is needed. Additionally, since approval, minor changes were made to the instruments to include a question in the time log to ask about virtual service delivery since the COVID-19 pandemic resulted in grantees offering virtual services.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: Since 2006, CB has awarded multiple rounds of competitive grants to state and local agencies and service providers under the RPG Program. Grants are awarded to organizations such as child welfare agencies, substance abuse treatment providers, or family court systems to develop interagency collaborations and provide services designed to increase well-being, improve permanency, and enhance the safety of children who are in or are at risk of being placed in out-of-home care as a result of a parent's or caretaker's substance abuse. Thirty-five grantees are participating in the ongoing RPG national cross-site evaluation, which examines implementation, partnerships, outcomes, and impacts. All grantees collect data on a uniform set of performance measures and report them to CB on a semi-annual basis through a web-based system. These ongoing data collection activities are approved under OMB #0970-0527. All grantees are also required to use a portion of their funding to conduct their own “local” program impact evaluation.

This proposed cost study adds a new and unique contribution to CB's portfolio of evaluation activities. Although the RPG cross-site evaluation will provide evidence for the effectiveness of some interventions to address the emotional effects of trauma, more information is needed about the cost of implementing these Evidence-Based Programs (EBPs).

The cost study has the key objective to determine the cost of implementing the following three select Trauma-Specific EBPs: Parent-Child Interaction Therapy, Seeking Safety, and Trauma-Focused Cognitive Behavioral Therapy. To carry out this objective, the study team will collect detailed cost information from nine RPG round four and five grantees who are implementing these selected EBPs. For each grantee, the study team will administer the following two data collection instruments: (1) A Cost Workbook used to collect comprehensive information on the cost of implementing each select program (Instrument #1), and (2) a Staff Survey and Time Log used to collect information on how program staff allocate their time (Instrument #2).

Respondents: Grantee staff.

Annual Burden Estimates

Data collection will take place within a 1-year period.

Instrument | Total number of respondents | Total number of responses per respondent | Average burden hours per response | Total/annual burden hours
Cost Workbook | 9 | 1 | 8 | 72
Staff Survey and Time Log | 90 | 1 | 3.6 | 330

Estimated Total Annual Burden Hours: 402.

Authority: The Child and Family Services Improvement and Innovation Act (Pub. L. 112-34).

Mary B. Jones,
ACF/OPRE Certifying Officer.

[FR Doc. 2021-22677 Filed 10-18-21; 8:45 am]

BILLING CODE 4184-29-P